DEPARTMENT OF ENERGY

Federal Energy Regulatory Commission

Combined Notice of Filings # 1

December 9, 2008.

Take notice that the Commission received the following electric rate filings:

Docket Numbers: ER94-1384-035; ER03-1108-008; ER03-1109-008; ER08-1432-002.

Applicants: Morgan Stanley Capitol Group Inc; MS Solar Solutions Corp; Power Contract Financing II, Inc.; Power Contract Financing II, L.L.C.

Description: Morgan Stanley Capital Group Inc submit Revisions to the MS Utilities Rate Schedules FERC 1 et al.

Filed Date: 12/04/2008.

Accession Number: 20081209-0154.

Comment Date: 5 p.m. Eastern Time on Friday, December 26, 2008.

Docket Numbers: ER02-537-021.

Applicants: Shady Hills Power Company, L.L.C.

Description: Shady Hills Power Company, LLC submits Triennial Market Power Analysis.

Filed Date: 12/04/2008.

Accession Number: 20081209-0153.

Comment Date: 5 p.m. Eastern Time on Monday, February 2, 2009.

Docket Numbers: ER07-459-003.

Applicants: Vermont Transco LLC.

Description: Compliance Filing of Vermont Electric Power Company, Inc., et al.

Filed Date: 11/17/2008.

Accession Number: 20081117-5188.

Comment Date: 5 p.m. Eastern Time on Friday, December 19, 2008.

Docket Numbers: ER08-129-004.

Applicants: Southern Company Services, Inc.

Description: Alabama Power Company et al submit response to Commission letter dated 11/4/08 re its compliance filing made on 4/9/08.

Filed Date: 12/04/2008.

Accession Number: 20081209-0160.

Comment Date: 5 p.m. Eastern Time on Friday, December 26, 2008.

Docket Numbers: ER08-1340-002; ER08-1341-002; ER08-1342-002.

Applicants: Florida Power & Light Company; Progress Energy Florida; Tampa Electric Company.

Description: Florida Power & Light Company et al submit modifications to the Florida Reserve Sharing Group Agreement.

Filed Date: 12/05/2008.

Accession Number: 20081209-0152.

Comment Date: 5 p.m. Eastern Time on Friday, December 26, 2008.

Docket Numbers: ER08-1564-001.

Applicants: MidAmerican Energy Company.

Description: MidAmerican Energy Company submits Service Agreement for Substation Operator Services and Substation Facility Maintenance Services.

Filed Date: 12/04/2008.

Accession Number: 20081209-0155.

Comment Date: 5 p.m. Eastern Time on Friday, December 26, 2008.

Docket Numbers: ER08-1589-001.

Applicants: PacifiCorp.

Description: PacifiCorp submit Exhibit A, a revised Network Integration Transmission Service Agreement.

Filed Date: 12/05/2008.

Accession Number: 20081209-0156.

Comment Date: 5 p.m. Eastern Time on Friday, December 26, 2008.

Docket Numbers: ER09-100-001.

Applicants: AEP Service Corporation.

Description: AEP Power Marketing, Inc. et al. submit corrected version of the AEP Operating Companies cost based tariff designating the tariff as FERC Electric Tariff Original Volume 7.

Filed Date: 12/05/2008.

Accession Number: 20081209-0157.

Comment Date: 5 p.m. Eastern Time on Friday, December 26, 2008.

Docket Numbers: ER09-352-000.

Applicants: West Valley Holdings, LLC.

Description: Request of West Valley Holdings, LLC for authorization to sell energy and capacity at market-based rates, request for waivers etc.

Filed Date: 12/02/2008.

Accession Number: 20081208-0405.

Comment Date: 5 p.m. Eastern Time on Tuesday, December 23, 2008.

Docket Numbers: ER09-376-000.

Applicants: Pacific Gas and Electric Company.

Description: Pacific Gas and Electric Co. submit a compliance filing re rate change to FERC Electric Tariff, Sixth Revised Volume No. 5.

Filed Date: 12/05/2008.

Accession Number: 20081208-0545.

Comment Date: 5 p.m. Eastern Time on Friday, December 26, 2008.

Docket Numbers: ER09-377-000.

Applicants: Phoenix Wind Power LLC

Description: Phoenix Wind Power LLC submits a Notice of Cancellation of its market-based rate tariff, FERC Electric Tariff, Third Revised Rate Schedule FERC No. 1.

Filed Date: 12/05/2008.

Accession Number: 20081208-0544.

Comment Date: 5 p.m. Eastern Time on Friday, December 26, 2008.

Docket Numbers: ER09-378-000.

Applicants: New York Independent System Operator, Inc.

Description: New York Independent System Operator, Inc. submits revisions to Attachment W et al. re proposed revisions to the Transmission Congestion Contract Creditworthiness Provisions.

Filed Date: 12/05/2008.

Accession Number: 20081208-0543.

Comment Date: 5 p.m. Eastern Time on Friday, December 26, 2008.

Docket Numbers: ER09-379-000.

Applicants: Wisconsin Public Service Corporation.

Description: Wisconsin Public Service Corp submits tariff revisions to extend the termination date of the Sinning Reserve Services Agreement.

Filed Date: 12/05/2008.

Accession Number: 20081208-0542.

Comment Date: 5 p.m. Eastern Time on Friday, December 26, 2008.

Docket Numbers: ER09-380-000.

Applicants: PacifiCorp.

Description: PacifiCorp submits a Transmission Interconnection Agreement for Points of Delivery.

Filed Date: 12/05/2008.

Accession Number: 20081208-0541.

Comment Date: 5 p.m. Eastern Time on Friday, December 26, 2008.

Docket Numbers: ER09-381-000.

Applicants: Pacific Gas and Electric Company.

Description: Pacific Gas and Electric Co. submits an executed Transmission Facilities Agreement.

Filed Date: 12/05/2008.

Accession Number: 20081208-0540.

Comment Date: 5 p.m. Eastern Time on Friday, December 26, 2008.

Docket Numbers: ER09-383-000.

Applicants: Vermont Transco LLC

Description: Vermont Transco LLC submits an executed service agreement with Green Mountain Power Co. et al.

Filed Date: 12/05/2008.

Accession Number: 20081208-0539.

Comment Date: 5 p.m. Eastern Time on Friday, December 26, 2008.

Docket Numbers: ER09-384-000.

Applicants: Middletown Power LLC

Description: Middletown Power LLC and Montville Power LLC submits proposed revisions to their cost-of-service Reliability Must-Run Agreements.

Filed Date: 12/05/2008.

Accession Number: 20081208-0538.

Comment Date: 5 p.m. Eastern Time on Friday, December 26, 2008.

Take notice that the Commission received the following open access transmission tariff filings:

Docket Numbers: OA08-101-001.

Applicants: PJM Interconnection, L.L.C.

Description: PJM Interconnection, LLC, submits revisions to the PJM Open Access Transmission Tariff in compliance with FERC Letter Order issued 10/21/08.

Filed Date: 11/20/2008.

Accession Number: 20081124-0158.

Comment Date: 5 p.m. Eastern Time on Tuesday, December 23, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-29917 Filed 12-16-08; 8:45 am]

BILLING CODE 6717-01-P